DEPARTMENT OF COMMERCE

[I.D. 061002A]

Submission for OMB Review; Comment Request

The Department of Commerce has submitted to the Office of Management and Budget (OMB) for clearance the following proposal for collection of information under the provisions of the Paperwork Reduction Act (44 U.S.C. Chapter 35).

Agency: National Oceanic and Atmospheric Administration (NOAA).

Title: Fishing Capacity Reduction Program Buyback Requests.

Form Number(s): None.

OMB Approval Number: 0648-0376.

Type of Request: Regular submission.

Burden Hours: 38,563.

Number of Respondents: 878.

Average Hours Per Response: 6,634 hours for a business plan; 4 hours for a referenda vote; 4 hours for an invitation to bid; 10 minutes to submit a fish ticket; 2 hours for a monthly buyer report; 4 hours for an annual buyer report; 2 hours for a seller/buyer report; 270 hours for a state approval of plans and amendments to state fishery management plan; and 1 hour for advising of any holder or owner claims that conflict with accepted bidders’ representations about reduction permit ownership or reduction vessel ownership.

Needs and Uses: NMFS has established a program to reduce excess fishing capacity by paying fishermen (1) to surrender their fishing permits or (2) both surrender their permits and either scrap their vessels or restrict vessel titles to prevent fishing. NMFS proposes to add a provision which would allow the public 30 days to advise of any holder or owner claims that conflict with accepted bidders' representations about reduction permit ownership or reduction vessel ownership, and to merge requirements currently cleared under OMB Control Number 0648-0413.

Affected Public: Business or other for-profit organizations, individuals or households, and State, Local, or Tribal Government.

Frequency: On occasion, monthly, annually.

Respondent's Obligation: Mandatory.

OMB Desk Officer: David Rostker, (202) 395-3897.

Copies of the above information collection proposal can be obtained by calling or writing Madeleine Clayton, Departmental Paperwork Clearance Officer, (202) 482-3129, Department of Commerce, Room 6086, 14th and Constitution Avenue, NW, Washington, DC 20230 (or via the Internet at MClayton@doc.gov).

Written comments and recommendations for the proposed information collection should be sent within 30 days of publication of this notice to David Rostker, OMB Desk Officer, Room 10202, New Executive Office Building, Washington, DC 20503.

Dated: June 4, 2002.
Madeleine Clayton,
Departmental Paperwork Clearance Officer, Office of the Chief Information Officer.

[FR Doc. 02-14960 Filed 6-12-02; 8:45 am]

BILLING CODE 3510-22-S